DEPARTMENT OF COMMERCE

National Oceanic and Atmospheric Administration

Proposed Information Collection; Comment Request; Economic Impacts of Diving and Snorkeling Expenditures in Southern Florida

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 22, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Kristy Wallmo, 301-427-8190 or kristy.wallmo@noaa.gov

SUPPLEMENTARY INFORMATION:

I. Abstract

This request is for a new collection of information.

The objective of the survey will be to understand divers' and snorkelers' expenditures associated with recreational coral reef diving activities in South Florida. The survey will also collect information on divers' attitudes, preferences, and concerns about recreational diving and coral reefs health in South Florida. We are conducting this survey to improve our understanding of divers' expenditure patterns and to estimate the economic impact of coral reef related spending. Results of the survey will be used to inform coastal resource management planning and establish a baseline for outreach and education. The expenditure survey is also expected to provide useful information for local economic and business interests.

II. Method of Collection

The survey will be conducted using two modes: Mail and Internet.

III. Data

OMB Control Number: 0648-XXXX.

Form Number: None.

Type of Review: Regular submission (request for a new information collection).

Affected Public: Individual recreational divers and snorkelers.

Estimated Number of Respondents: 1,500.

Estimated Time per Response: 20 minutes.

Estimated Total Annual Burden Hours: 500.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 15, 2016.
Sarah Brabson,
NOAA PRA Clearance Officer.

[FR Doc. 2016-01195 Filed 1-21-16; 8:45 am]

BILLING CODE 3510-22-P